DEPARTMENT OF THE INTERIOR

Fish and Wildlife Service

Crocodile Lake National Wildlife Refuge

AGENCY: Fish and Wildlife Service, Interior.

ACTION: Notice of availability of the Final Comprehensive Conservation Plan and Finding of No Significant Impact for Crocodile Lake National Wildlife Refuge in Monroe County, Florida.

SUMMARY: The Fish and Wildlife Service announces that a Final Comprehensive Conservation Plan and Finding of No Significant Impact for Crocodile Lake National Wildlife Refuge are available for distribution. The plan was prepared pursuant to the National Wildlife Refuge System Improvement Act of 1997, and in accordance with the National Environmental Policy Act of 1969, and describes how the refuge will be managed for the next 15 years.

ADDRESSES: A copy of the plan may be obtained by writing to the National Key Deer Refuge, 28950 Watson Boulevard, Big Pine Key, Florida 33043. The plan may also be accessed and downloaded from the Service's Internet Web site http://southeast.fws.gov/planning/.

SUPPLEMENTARY INFORMATION: Crocodile Lake National Wildlife Refuge is located on North Key Largo in Monroe County, Florida, approximately 40 miles southeast of Miami. The refuge was established in April 1980 under the authorities of the Endangered Species Act of 1973 (as amended), and the Land and Water Conservation Fund Act of 1965 (as amended in 1976). It currently covers 6,700 acres, including 650 acres of open water. It contains a mosaic of habitat types including tropical hardwood hammock, mangrove forests, and salt marshes. These habitats are vital for hundreds of plants and animals, including six federally listed species.

The availability of the Draft Comprehensive Conservation Plan and Environmental Assessment for a 60-day public review and comment period was announced in the Federal Register on August 16, 2005 (70 FR 48187). The plan and environmental assessment identified and evaluated three alternatives for managing the refuge over the next 15 years. Alternative 2 was chosen as the “preferred alternative.” Under Alternative 2, 6,700 acres of refuge lands will be conserved, maintained, and enhanced. Increased efforts related to habitat restoration, exotics control, pest management, and monitoring are characteristics of this alternative. The increased management action will help to achieve the long-term goals and objectives in a timelier manner. This alternative will result in a more ecosystem-based management approach will views the refuge as a single system rather than separate habitat types. Federally listed species will still be primary concern, but needs of other resident and migratory wildlife will also be considered. This alternative will be the most effective for meeting the purposes of the refuge by conserving habitats and associated wildlife. It best achieves national, ecosystem, and refuge-specific goals and objectives and positively addresses significant issues and concerns expressed by the public.

FOR FURTHER INFORMATION CONTACT: Van Fischer, Natural Resource Planner, National Key Deer Refuge Complex; telephone: 305/872-2239; Fax: 305/872-3675; E-mail: van_fischer@fws.gov.

Authority: This notice is published under the authority of the National Wildlife Refuge System Improvement Act of 1997, Public Law 105-57.

Dated: February 23, 2006.
Cynthia K. Dohner,
Acting Regional Director.

[FR Doc. 06-3434 Filed 4-10-06; 8:45am]

BILLING CODE 4310-55-M